DEPARTMENT OF AGRICULTURE

Grain Inspection, Packers and Stockyards Administration

Advisory Committee Meeting

AGENCY: Grain Inspection, Packers and Stockyards Administration, USDA.

ACTION: Notice of advisory committee meeting.

SUMMARY: Pursuant to the Federal Advisory Committee Act, this constitutes notice of the upcoming meeting of the Grain Inspection Advisory Committee. The Grain Inspection Advisory Committee meets twice annually to advise GIPSA on the programs and services we deliver under the U.S. Grain Standards Act. Recommendations by the committee help us to better meet the needs of our customers who operate in a dynamic and changing marketplace.

DATES: May 13, 8 a.m. to 5 p.m.; and May 14, 2008, 8 a.m. to 1 p.m.

ADDRESSES: The Advisory Committee meeting will take place at the Minneapolis Marriott City Center, 30 South Seventh Street, Minneapolis, Minnesota 55402.

Requests to address the Advisory Committee at the meeting or written comments may be sent to: Administrator, GIPSA, U.S. Department of Agriculture, 1400 Independence Avenue, SW., STOP 3601, Washington, DC 20250-3601. Requests and comments may also be faxed to (202) 690-2173.

FOR FURTHER INFORMATION CONTACT: Ms. Terri Henry, (202) 205-8281 or by e-mail at Terri.L.Henry@usda.gov.

SUPPLEMENTARY INFORMATION: The purpose of the Advisory Committee is to provide advice to the Administrator of the Grain Inspection, Packers and Stockyards Administration with respect to the implementation of the U.S. Grain Standards Act (7 U.S.C. 71 et seq.). Relevant information about the Advisory Committee is available on the GIPSA Web site. Go to http://www.gipsa.usda.gov and under the section “I Want To * * *,” click on “Learn about the Grain Inspection Advisory Committee.”

The agenda will include discussions about the agency's financial status, the Agency's work in assessing wheat functionality, the Agency's work to capture first-point-of sale grading quality data via the Farm Gate Quality assessments; the status of export services contracts; a collaborative inspector training program; international trade issues; FGISonline, GIPSA's initiative to bring modernized business operations to the web to better serve our customers; and centralization of oversight programs.

For a copy of the agenda please contact Terri Henry, (202) 205-8281 or by e-mail Terri.L.Henry@usda.gov.

Public participation will be limited to written statements, unless permission is received from the Committee Chairman to orally address the Advisory Committee. The meeting will be open to the public.

Persons with disabilities who require alternative means of communication of program information or related accommodations should contact Terri Henry, at the telephone number listed above.

James E. Link,
Administrator, Grain Inspection, Packers and Stockyards Administration.

[FR Doc. E8-8902 Filed 4-23-08; 8:45 am]

BILLING CODE 3410-KD-P